DEPARTMENT OF THE INTERIOR

Bureau of Land Management

[BLM_AK_FRN_MO4500178463]

Notice of Availability for the Central Yukon Proposed Resource Management Plan/Environmental Impact Statement, Alaska

AGENCY: Bureau of Land Management, Interior.

ACTION: Notice of availability.

SUMMARY: In compliance with the National Environmental Policy Act of 1969, as amended, and the Federal Land Policy and Management Act of 1976, as amended, the Bureau of Land Management (BLM) has prepared a Proposed Resource Management Plan (RMP) and Final Environmental Impact Statement (EIS) for the Central Yukon Planning Area, and by this notice is announcing the start of a 30-day protest period of the Proposed RMP.

DATES: This notice announces the beginning of a 30-day protest period to the BLM on the Proposed RMP. Protests must be postmarked or electronically submitted on the BLM's ePlanning site within 30 days of the date that the Environmental Protection Agency (EPA) publishes its Notice of Availability (NOA) in the Federal Register. The EPA usually publishes its NOAs on Fridays.

ADDRESSES: The Proposed RMP/Final EIS is available on the BLM's ePlanning project website at https://eplanning.blm.gov/eplanning-ui/project/35315/510. Documents pertinent to this proposal may be examined online at https://eplanning.blm.gov/eplanning-ui/project/35315/570 and at the BLM Alaska State Office, BLM Alaska Public Information Center, 222 West 7th Avenue (1st Floor), Anchorage, Alaska, 99513; or at the Fairbanks District Office, 222 University Avenue, Fairbanks, Alaska 99709.

Instructions for filing a protest with the BLM for the Central Yukon Proposed RMP/Final EIS can be found at: https://www.blm.gov/programs/planning-and-nepa/public-participation/filing-a-plan-protest and in the Code of Federal Regulations (CFR) at 43 CFR 1610.5-2.

FOR FURTHER INFORMATION CONTACT: Melinda Bolton, BLM Alaska Planning and Environmental Specialist, telephone: (907) 271-3342 or email: mbolton@blm.gov. Individuals in the United States who are deaf, deafblind, hard of hearing, or have a speech disability may dial 711 (TTY, TDD, or TeleBraille) to access telecommunications relay services for contacting Ms. Bolton. Individuals outside the United States should use the relay services offered within their country to make international calls to the point-of-contact in the United States.

SUPPLEMENTARY INFORMATION: The Central Yukon Proposed RMP/Final EIS is a comprehensive framework for future public land management actions in the Central Yukon region of Alaska. The planning area consists of about 55.7 million acres of land, including approximately 13.3 million acres of public lands managed by the BLM Central Yukon Field Office.

The Central Yukon RMP will guide management of these public lands for the benefit of current and future generations as part of the BLM's multiple-use mission. This planning effort updates management decisions for public land uses and resources, including subsistence resources, mineral exploration and development, and recreation. When complete, the updated Central Yukon RMP will replace the Utility Corridor RMP (1991), the original Central Yukon RMP (1986), and portions of the Southwest Management Framework Plan (1981), as well as provide RMP-level decisions for unplanned lands west of Fairbanks. The proposed plan provides consolidated direction under one resource management plan to address land and resource use and development on BLM-managed public lands within the planning area.

The Central Yukon Proposed RMP/EIS evaluates six alternatives for managing the planning area. Alternatives B, C1, C2 (preferred alternative from Draft RMP/EIS), and D were developed using input from the public, Tribes, stakeholders, and cooperating agencies. Alternative E is the BLM's Proposed RMP. This alternative was developed after considering public comments on the Draft RMP/EIS and provided in the ANILCA section 810 hearings, internal BLM discussions, government-to-government consultation, and cooperating agency input.

The Proposed RMP is drawn from components of the Alternatives analyzed in the Draft RMP/EIS and, as such, the management provisions are within the range of alternatives presented to the public. Alternative A, the no action alternative, represents existing management described by current land use plans and provides the benchmark against which to compare the other alternatives. Alternative B emphasizes reducing the potential for competition between development uses and subsistence resources by identifying key areas for additional management actions. Alternative C1 emphasizes a blend of resource protection and development at the planning level to maintain the long-term sustainability of resources while providing for multiple resource uses. Alternative C2 emphasizes management to facilitate resource development while applying habitat management and administrative designations to accommodate multiple uses. Alternative D focuses on maximizing BLM-managed public lands for development potential with fewer management restrictions at the planning level. Unlike the action alternatives from the Draft RMP/EIS, the Proposed RMP (Alternative E) recommends retention of Public Land Order (PLO) 5150. The Proposed RMP also does not recommend full revocation of the ANCSA 17(d)(1) PLOs, but does recommend revoking the withdrawals in part to allow for selection by Alaska Native Vietnam-era veterans where the PLOs currently do not allow for it. For most resources, the Proposed RMP is similar to Alternative C (either Alternative C1 or Alternative C2). The Proposed RMP designates twenty-one Areas of Critical Environmental Concern (ACECs) or Research Natural Areas, encompassing approximately 3,601,000 acres. For a detailed comparison of Alternatives, including ACEC acreages proposed for designation, see Table 2-1 and corresponding maps in Appendix A of the Proposed RMP/Final EIS.

Major planning issues addressed include subsistence resources, subsistence access, water resources, fisheries, wildlife, forestry, minerals, mining, recreation, travel management, and ACECs.

Protest of the Proposed RMP: The BLM planning regulations state that any person who participated in the preparation of the RMP and has an interest which will or might be adversely affected by approval of the Proposed RMP may protest its approval to the BLM Director. Protest on the Proposed RMP constitutes the final opportunity for administrative review of the proposed land use planning decisions prior to the BLM adopting an approved RMP. Instructions for filing a protest regarding the Proposed RMP with the BLM Director may be found online at https://www.blm.gov/programs/planning-and-nepa/public-participation/filing-a-plan-protest and at 43 CFR 1610.5-2. All protests must be in writing and mailed to the appropriate address, as set forth in the ADDRESSES section earlier, or submitted electronically through the BLM ePlanning project website as described previously. Protests submitted electronically by any means other than the ePlanning project website or by fax will be invalid unless a protest is also submitted as a hard copy.

The BLM Director will render a written decision on each protest. The Director's decision shall be the final decision of the Department of the Interior. Responses to valid protest will be compiled and documented in a Protest Resolution Report made available following the protest resolution online at: https://www.blm.gov/programs/planning-and-nepa/public-participation/protest-resolution-reports. Upon resolution of protests, the BLM will issue a Record of Decision and Approved RMP.

Before including your phone number, email address, or other personal identifying information in your protest, you should be aware that your entire protest- including your personal identifying information—may be made publicly available at any time. While you can ask us in your protest to withhold your personal identifying information from public review, we cannot guarantee that we will be able to do so.

(Authority: 40 CFR 1506.6, 40 CFR 1506.10, 43 CFR 1610.2, 43 CFR 1610.5)

Steven M. Cohn,
State Director, Alaska.

[FR Doc. 2024-08966 Filed 4-25-24; 8:45 am]

BILLING CODE 4331-10-P